DEPARTMENT OF HEALTH AND HUMAN SERVICES

Health Resources and Services Administration

Agency Information Collection Activities: Proposed Collection: Public Comment Request; The Maternal, Infant, and Early Childhood Home Visiting Program Quarterly Performance Report

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than September 23, 2024.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Joella Roland, the HRSA Information Collection Clearance Officer, at paperwork@hrsa.gov or call (301) 443-3983.

SUPPLEMENTARY INFORMATION:

Information Collection Request Title: The Maternal, Infant, and Early Childhood Home Visiting Program Quarterly Performance Report, OMB No. 0906-0016, Revision.

Abstract: This request is for continued approval of the Maternal, Infant, and Early Childhood Home Visiting (MIECHV) Program Quarterly Performance Report. The MIECHV Program is administered by the Maternal and Child Health Bureau within HRSA in partnership with the Administration for Children and Families, and provides support to all 56 states and jurisdictions, as well as tribes and tribal organizations. Through a needs assessment, states, jurisdictions, tribes, and tribal organizations identify target populations and select the home visiting service delivery model(s) that best meet their needs. In response to awardee feedback, HRSA is proposing the following revisions to the data collection forms to reduce administrative burden related to this performance report:

• Form 4, Table A.2: Remove Column D: ZIP Codes

• Form 4, Definition of Key Terms: Update definitions for Table A.2

• Form 4: Remove Section B

A 60-day notice published in the Federal Register on May 2, 2024, vol. 89, No. 86; pp. 35841-42. HRSA received one comment from an awardee. The commentor discussed the usefulness of collecting ZIP codes of families served by MIECHV-funded sites, suggested considering collection of data on Tables A.2, A.3, and A.4 on an annual basis, and supported the burden estimate. While HRSA recognizes the value of collecting participant ZIP code data, after weighing the significant burden awardees have reported on collecting and reporting this data, and considering that its continued collection of participant county data supports its data needs, HRSA has decided to make no changes to the proposed information collection tools in response to this comment. HRSA intends to re-assess the current performance measurement system over the next 3 years including identifying opportunities to reduce administrative burden related to performance reporting and will consider frequency of the proposed information collection in the future.

Need and Proposed Use of the Information: HRSA uses quarterly performance information to demonstrate program accountability and continuously monitor and provide oversight to MIECHV Program awardees. The information is also used to provide quality improvement guidance and technical assistance to awardees and help inform the development of early childhood systems at the national, state, and local level. HRSA is seeking to remove collection of a variable and update key terms given this deletion.

Likely Respondents: MIECHV Program awardees that are states, jurisdictions, and where applicable, nonprofit organizations providing home visiting services within states.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Form 4: Section A—Quarterly Performance Report | 56 | 4 | 224 | 21 | 4,704
Total | 56 |  | 224 |  | 4,704

Maria G. Button,
Director, Executive Secretariat.

[FR Doc. 2024-18840 Filed 8-21-24; 8:45 am]

BILLING CODE 4165-15-P